DEPARTMENT OF ENERGY

Federal Energy Regulatory Commission

Projects Nos. 13240-000 and 13241-000

BPUS Generation Development LLC; Intertie Energy Storage LLC; Notice of Competing Preliminary Permit Applications Accepted for Filing and Soliciting Comment, Motions to Intervene, and Competing Applications

January 16, 2009.

On June 13, 2008, at 5:01 p.m., and on June 16, 2008, at 12:05 a.m., respectively, BPUS Generation Development LLC (BPUS Generation) and Intertie Energy Storage LLC (Intertie Energy) filed applications, pursuant to section 4(f) of the Federal Power Act, proposing to study the feasibility of the Lorella Pumped Storage Project and the Klamath County Water Power Project, to be located approximately two miles southwest and ten miles northeast of the towns of Lorella and Malin in Klamath County, Oregon.

The proposed projects would each consist of: (1) A proposed upper reservoir with a surface area of approximately 200 acres at a normal water surface elevation of approximately 5533 feet m.s.l.; (2) a proposed lower reservoir with a surface area of approximately 400 acres at a normal water surface elevation of approximately 4,200 feet m.s.l.: (3) a proposed powerhouse containing 4 generating units having a total installed capacity of 1,000 megawatts, (4) a proposed intake structure, (5) a proposed 4-mile-long, 500 kV transmission line, and (6) appurtenant facilities. The projects would each have an annual generation of approximately 1,600 gigawatt-hours that would be sold to a local utility.

Applicant Contact: for BPUS Generation—Mr. Jeffrey M. Auser, P.E., BPUS Generation Development LLC, 225 Greenfield Parkway, Suite 201, Liverpool, NY 13088; phone: 315-413-2700; for Intertie Energy—Mr. George Waldow, Intertie Energy Storage LLC, 1390 Kingsview Lane, Plymouth, MN 55447; phone: 763-476-4440. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about these projects can be viewed or printed on the “eLibrary” link of Commission's Web site at http://www.ferc.gov/docs-filing/elibrary.asp. Enter the docket number (P-13240-000 or P-13241-000) in the docket number field to access the document. For assistance, call toll-free 1-866-208-3372.

Kimberly D. Bose,
Secretary.

[FR Doc. E9-1766 Filed 1-27-09; 8:45 am]

BILLING CODE 6717-01-P